DEPARTMENT OF JUSTICE

48 CFR Chapter 28

[Docket No. JMD 155]

RIN 1105-AB54

Streamlining DOJ Acquisition Regulations (JAR); Corrections

AGENCY: Justice Management Division, Department of Justice.

ACTION: Final rule; corrections.

SUMMARY: The Department of Justice (“Department” or “DOJ”) is correcting a final rule that was published in the Federal Register on August 2, 2022, with an effective date of September 2, 2022. The final rule revised the Justice Acquisition Regulations (“JAR”) in its entirety in order to update and streamline agency procurement actions consistent with the Federal Acquisition Reform Act and the Federal Acquisition Streamlining Act. The text of the final rule contained minor administrative errors. This document corrects the indicated portions of the final rule published on August 2, 2022, which otherwise remains the same as previously published.

DATES: Effective September 2, 2022.

FOR FURTHER INFORMATION CONTACT: Tara M. Jamison, Director, Office of Acquisition Management, Justice Management Division, 145 N Street NE, Room 8W.210, Washington, DC 20530, (202) 616-3754 (not a toll-free call).

SUPPLEMENTARY INFORMATION: On August 2, 2022, the Department issued a final rule titled, “Streamlining DOJ Acquisition Regulations (JAR),” revising the existing JAR to update and streamline agency procurement actions (87 FR 47116), with an effective date of September 2, 2022. The text of the final rule contained minor administrative errors. This document corrects those administrative errors.

Corrections

In FR Doc. 2022-15746, published at 87 FR 47116 in the issue of Tuesday, August 2, 2022, the following corrections are made:

PART 2804 [Corrected]

1. On page 47121, in the third column, under the table of contents for part 2804, the entries for “Subpart 2804.13—Personal Identity Verification” and “2804.1301 Policy.” are removed.

PART 2805 [Corrected]

2. On page 47122, in the second column, under the table of contents for part 2805, under Subpart 2805.5—Paid Advertisements, the entry “2805.500 Scope of subpart.” is added. 2805.500 [Corrected]

3. On page 47122, in the third column, following the heading “Subpart 2805.5—Paid Advertisements”, the heading “2805.500 Scope of subpart.” is added before the text “This subpart provides policies and procedures for the procurement of paid advertising as covered by 44 U.S.C. 3702 and 3703 and 5 U.S.C. 302(b).”

PART 2822 [Corrected]

4. On page 47127, in the second column, under the table of contents for part 2822, under Subpart 2822.1—Basic Labor Policies, the entry “2822.101-3 Reporting labor disputes.” is removed.

2852.222-70 [Corrected]

5. On page 47138, in the first column, in the introductory text of 2852.222-70, remove “JAR 2822.101-1-70” and add in its place “JAR 2822.101-70”.

Dated: August 22, 2022.
Jolene Ann Lauria,
Acting Assistant Attorney General for Administration.

[FR Doc. 2022-18448 Filed 8-25-22; 8:45 am]

BILLING CODE 4410-AR-P